FEDERAL COMMUNICATIONS COMMISSION

Notice of Public Information Collection(s) Being Reviewed by the Federal Communications Commission

August 1, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 14, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554, or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0719.

Title: Quarterly Report of IntraLATA Carriers Listing Payphone Automatic Number Identifications (ANIs).

Form No.: N/A.

Type of Review: Extension of a currently approved collection.

Respondents: Business or other for-profit.

Number of Respondents: 400 respondents; 1,600 responses.

Estimated Time Per Response: 3.5 hours.

Frequency of Response: Recordkeeping requirement, third party disclosure requirements, and quarterly reporting requirements.

Total Annual Burden: 5,600 hours.

Total Annual Cost: N/A.

Needs and Uses: IntraLATA carriers must submit a quarterly list of payphone ANIs to the interexchange carriers. This will facilitate resolution of disputed ANIs in the par-call compensation context. The report allows IXCs to determine which dial-around calls are made from payphones. The data which must be maintained for at least 18 months after the close of a compensation period will facilitate verification of disputed ANIs.

OMB Control No.: 3060-0743.

Title: Implementation of the Pay Telephone Reclassification and Compensation Provisions of the Telecommunications Act of 1996, CC Docket No. 96-128.

Form No.: N/A.

Type of Review: Revision of a currently approved collection.

Respondents: Business or other for-profit.

Number of Respondents: 6,345.

Estimated Time Per Response: 29 hours (average).

Frequency of Response: Recordkeeping requirement, third party disclosure requirements, and on occasion, quarterly, annual, and other reporting requirements.

Total Annual Burden: 152,801 hours.

Total Annual Cost: N/A.

Needs and Uses: The Commission promulgated rules and requirements implementing Section 276 of the Telecommunications Act of 1996. Among other things, the rules: (1) Established fair compensation for every completed intrastate and interstate payphone cell; (2) discontinued intrastate and interstate access charge payphone service elements and payments, and intrastate and interstate payphone subsidies from basic exchange services; and (3) adopted guidelines for use by the states in establishing public interest payphones to be located where there would otherwise not be a payphone. The Commission is making minor editorial changes to this information collection.

OMB Control No.: 3060-0856.

Title: Universal Service—Schools and Libraries Universal Service Program Reimbursement Forms.

Form No.: FCC Forms 472, 473, and 474.

Type of Review: Revision of a currently approved collection.

Respondents: Business or other for-profit, not-for-profit institutions.

Number of Respondents: 61,800.

Estimated Time Per Response: 1-2 hours.

Frequency of Response: On occasion and annual reporting requirements, and third party disclosure requirements.

Total Annual Burden: 88,050 hours.

Total Annual Cost: N/A.

Needs and Uses: The Telecommunications Act of 1996 contemplates that discounts on eligible services shall be provided to schools and libraries, and that service providers shall seek reimbursement for the amount of the discounts. FCC Forms 473 and 474 facilitate the reimbursement process. FCC Form 472 allows providers to confirm that they are actually providing the discounted services to eligible entities. FCC Forms 472, 473 and 474 and their instructions are being revised to make editorial changes, dates adjusted and clarification statements added. These forms instructions have also had invoice deadlines and extension request sections added for the filing requirements.

OMB Control No.: 3060-0952.

Title: Proposed Demographic Information and Notifications, Second FNPRM, CC Docket No. 98-147, and Fifth NPRM, CC Docket No. 96-98.

Form No.: N/A.

Type of Review: Extension of a currently approved collection.

Respondents: Business or other for-profit.

Number of Respondents: 1,400.

Estimated Time Per Response: 2 hours.

Frequency of Response: On occasion reporting requirements and third party disclosure requirements.

Total Annual Burden: 5,600 hours.

Total Annual Cost: N/A.

Needs and Uses: The proposed requirements implemented section 706 of the Communications Act of 1934, as amended, to promote deployment of advanced services without significantly degrading the performance of other services. In CC Docket No. 98-147, the Commission solicited comment on whether the requesting carriers should receive demographic and other information from ILECs to determine whether they wish to co-locate at particular remote terminals. In CC Docket No. 96-98 comments were sought on whether ILECs should provide certain notifications to competing carriers. This information collection has not changed and the Commission is seeking OMB to obtain the normal three year clearance.

OMB Control No.: 3060-1039.

Title: Nationwide Programmatic Agreement Regarding Section 106 National Historic Preservation Act—Review Process, WT Docket No. 03-128.

Form No.: N/A.

Type of Review: Extension of a currently approved collection.

Respondents: Individuals or households, business or other for-profit, not-for-profit institutions, and State, local, or Tribal government.

Number of Respondents: 12,000 respondents; 7,800 responses.

Estimated Time Per Response: 1-3 hours.

Frequency of Response: Recordkeeping requirement, third party disclosure requirements, and on occasion reporting requirements.

Total Annual Burden: 73,800 hours.

Total Annual Cost: $10,017,000.

Needs and Uses: This information is used by FCC staff, State Historic Preservation Officers (SHPOs), Tribal Historic Preservation Officers (THPOs), and the Advisory Council of Historic Preservation (ACHP) to take such action as may be necessary to ascertain whether a proposed action may affect historic properties that are listed or eligible for listing in the National Register as directed by Section 106 of the NHPA and the Commission's rules. The Commission sought and received emergency OMB approval for this information collection on 7/17/03. This information collection expires on 12/31/03. The Commission is seeking OMB approval to extend (no change) this collection for the normal three year OMB clearance.

Federal Communications Commission.
Marlene H. Dortch,
Secretary.

[FR Doc. 03-20872 Filed 8-13-03; 8:45 am]

BILLING CODE 6712-01-P